DEPARTMENT OF TRANSPORTATION

Federal Railroad Administration

49 CFR Part 218

[Docket No. FRA-2014-0033, Notice No. 3]

RIN 2130-AC48

Train Crew Staffing

AGENCY: Federal Railroad Administration (FRA), U.S. Department of Transportation (DOT).

ACTION: Proposed rule; notice of public hearing and reopening of comment period.

SUMMARY: On March 15, 2016, FRA published a Notice of Proposed Rulemaking (NPRM) that would require establishing minimum requirements for the size of train crew staffs depending on the type of operation. FRA is announcing a public hearing to provide interested persons an opportunity to provide oral comments on the proposal. FRA is also announcing a reopening of the comment period for this proceeding to allow time for interested parties to submit written comments in response to views or information provided at the public hearing.

DATES: A public hearing will be held on July 15, 2016, at 10:00 a.m. in Washington, DC. The comment period for the proposed rule published on March 15, 2016, (81 FR 13918) is open through June 15, 2016 (81 FR 30229). The comment period will reopen on July 15, 2016. Comments in response to views or information provided at the public hearing must be received by August 15, 2016.

ADDRESSES:

Public Hearing. The public hearing will be held at the National Housing Center of the National Association of Home Builders, 1201 15th Street NW., Washington, DC 20005.

Comments. You may submit comments identified by Docket Number FRA-2014-0033 by any of the following methods:

• Online: Comments should be filed at the Federal eRulemaking Portal, http://www.regulations.gov. Follow the online instructions for submitting comments.

• Fax: 202-493-2251.

• Mail: Docket Management Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Instructions: All submissions must include the agency name, docket name, and docket number or Regulatory Identification Number (RIN) for this rulemaking (RIN 2130-AC48). Note that FRA will post all comments received without change to http://www.regulations.gov, including any personal information provided. Please see the Privacy Act heading in the SUPPLEMENTARY INFORMATION section of this document for Privacy Act information about any submitted petitions, comments, or materials.

Docket: For access to the docket to read background documents or comments received, go to http://www.regulations.gov at any time or to the U.S. Department of Transportation, Docket Operations, M-30, West Building, Ground Floor, Room W12-140, 1200 New Jersey Avenue SE., Washington, DC 20590, between 9 a.m. and 5 p.m., Monday through Friday, except Federal Holidays.

FOR FURTHER INFORMATION CONTACT: Mr. Joseph D. Riley, Railroad Safety Specialist, Operating Practices, Operating Crew Certification, U.S. Department of Transportation, Federal Railroad Administration, Mail Stop 25, 1200 New Jersey Avenue SE., Washington, DC 20590, (202) 493-6318, or Mr. Alan H. Nagler, Senior Trial Attorney, U.S. Department of Transportation, Federal Railroad Administration, Office of Chief Counsel, RCC-10, Mail Stop 10, 1200 New Jersey Avenue SE., Washington, DC 20590, (202) 493-6038.

SUPPLEMENTARY INFORMATION: Interested parties are invited to present oral statements and to offer information and views at the hearing. The hearing will be informal and will be conducted by a representative FRA designates under FRA's Rules of Practice (49 CFR 211.25). The hearing will be a non-adversarial proceeding. Therefore, there will be no cross examination of persons presenting statements or offering evidence. An FRA representative will make an opening statement outlining the scope of the hearing. After all initial statements are completed those persons wishing to make a brief rebuttal will be given the opportunity to do so in the same order in which the initial statements were made. FRA will announce the additional procedures that are necessary to conduct the hearing, at the hearing. The purpose of this hearing is to receive oral comments in response to an NPRM that requested public comment on a potential train crew staffing rulemaking. See 81 FR 13918, March 15, 2016. FRA will add a transcript of the discussions to the public docket in this proceeding.

Public Participation Procedures. Any person wishing to make a statement at the hearing should notify Mr. Riley by telephone, email, or in writing, at least 5 working days before the date of the hearing and submit three copies of the oral statement that he or she intends to make at the proceeding. The notification should identify the party the person represents, the particular subject(s) the person plans to address, and the time requested. The notification should also provide the participant's mailing address and other contact information. FRA reserves the right to limit participation in the hearing of persons who fail to provide such notification. FRA also reserves the right to limit the duration of presentations if necessary to afford all persons with the opportunity to speak.

For information on facilities or services for persons with disabilities, or to request special assistance at the hearing, contact FRA Program Analyst, Mr. Kenton Kilgore, by telephone, email, or in writing, at least 5 working days before the date of the hearing. Mr. Kilgore's can be reached at Federal Railroad Administration, Office of Railroad Safety, Mail Stop 25, 1200 New Jersey Avenue SE., Washington, DC 20590; (202) 493-6286; or Kenton.Kilgore@dot.gov.

Reopening of Comment Period. The comment period for the proposed rule published on March 15, 2016, (81 FR 13918) is currently open through June 15, 2016 (81 FR 30229). A public hearing is scheduled after the close of this comment period. To accommodate the public hearing and to afford interested parties the opportunity to submit comments in response to views or information provided at the public hearing, FRA will reopen the comment period for the proposed rule on July 15, 2016. Comments in response to views or information provided at the public hearing must be received by August 15, 2016.

Privacy Act

Anyone can search the electronic form of any written communications and comments received into any of our dockets by the name of the individual submitting the comment (or signing the document, if submitted on behalf of an association, business, labor union, etc.). See http://www.regulations.gov/#!privacyNotice for the privacy notice of www.regulations.gov or interested parties may review DOT's complete Privacy Act Statement in the Federal Register published on April 11, 2000 (65 FR 19477). In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Robert C. Lauby,
Associate Administrator for Railroad Safety, Chief Safety Officer.

[FR Doc. 2016-14124 Filed 6-14-16; 8:45 am]

BILLING CODE 4910-06-P